OFFICE OF PERSONNEL MANAGEMENT

Excepted Service

AGENCY: Office of Personnel Management.

ACTION: Notice.

SUMMARY: This gives notice of positions placed or revoked under Schedules A and B, and placed under Schedule C in the excepted service, as required by Civil Service Rule VI, Exceptions from the Competitive Service.

FOR FURTHER INFORMATION CONTACT: Suzy Barker, Director, Staffing Reinvention Office, Employment Service (202) 606-0830.

SUPPLEMENTARY INFORMATION: The Office of Personnel Management published its last monthly notice updating appointing authorities established or revoked under the Excepted Service provisions of 5 CFR 213 on July 20, 2000 (65 FR 45117). Individual authorities established or revoked under Schedules A and B and established under Schedule C between June 1, 2000, and June 30, 2000, appear in the listing below. Future notices will be published on the fourth Tuesday of each month, or as soon as possible thereafter. A consolidated listing of all authorities as of June 30 will also be published.

Schedule A

No Schedule A authorities were established or revoked during June 2000.

Schedule B

No Schedule B authorities were established or revoked during June 2000.

Schedule C

The following Schedule C authorities were established during June 2000:

Department of Agriculture

Staff Assistant to the Press Secretary. Effective June 2, 2000.

Confidential Assistant to the Administrator, Rural Utilities Service. Effective June 2, 2000.

Department of Commerce

Special Assistant to the Deputy Director, Office of Policy and Strategic Planning. Effective June 2, 2000.

Special Assistant to the Assistant Secretary for National Telecommunications and Information Administration. Effective June 5, 2000.

Deputy Director for External Affairs to the Director of External Affairs. Effective June 5, 2000.

Confidential Assistant to the Director of External Affairs. Effective June 8, 2000.

Special Assistant to the Deputy Assistant Secretary for Intergovernmental Affairs. Effective June 19, 2000.

Special Assistant to the Under Secretary for Intellectual Property and Director of the U.S. Patent and Trademark Office. Effective June 19, 2000.

Legislative Affairs Specialist to the Assistant Secretary for Legislative and Intergovernmental Affairs. Effective June 29, 2000.

Department of Defense

Confidential Assistant to the Assistant Secretary of Defense for Public Affairs. Effective June 8, 2000.

Foreign Affairs Specialist to the Deputy Assistant Secretary of Defense (Peacekeeping and Humanitarian Affairs). Effective June 19, 2000.

Personal and Confidential Assistant to the Under Secretary of Defense for Personnel and Readiness. Effective June 19, 2000.

Defense Fellow to the Special Assistant to the Secretary of Defense for White House Liaison. Effective June 21, 2000.

Department of Education

Special Assistant to the Director, Office of Public Affairs. Effective June 2, 2000.

Special Assistant to the Deputy Secretary. Effective June 21, 2000.

Special Assistant to the Director, Scheduling and Briefing, Office of the Secretary. Effective June 29, 2000.

Department of Health and Human Services

Special Assistant to the Chief of Staff. Effective June 29, 2000.

Department of Housing and Urban Development

Intergovernmental Relations Specialist to the Deputy Assistant Secretary for Intergovernmental Relations. Effective June 2, 2000.

Intergovernmental Relations Specialist to the Deputy Assistant Secretary for Intergovernmental Affairs. Effective June 2, 2000.

Special Projects Advisor to the Special Events Coordinator, Office of the Assistant Secretary for Administration. Effective June 21, 2000.

Staff Assistant to the Deputy Assistant Secretary for Congressional and Intergovernmental Relations. Effective June 29, 2000.

Department of the Interior

Special Assistant to the Deputy Assistant Secretary—Policy and International Affairs. Effective June 2, 2000.

Special Assistant to the Deputy Chief of Staff. Effective June 8, 2000.

Deputy Director, Office of Intergovernmental Affairs to the Deputy Chief of Staff. Effective June 21, 2000.

Department of Justice

Assistant Director to the Director, Intergovernmental Affairs. Effective June 1, 2000.

Department of Labor

Special Assistant to the Assistant Secretary of Labor. Effective June 2, 2000.

Secretary's Representative, Philadelphia, PA to the Assistant Secretary, Office of Congressional and Intergovernmental Affairs. Effective June 2, 2000.

Special Assistant to the Deputy Secretary of Labor. Effective June 2, 2000.

Department of State

Special Assistant to the United States Representative to the American States, Bureau of Western Hemisphere Affairs. Effective June 1, 2000.

Special Assistant to the Deputy Assistant Secretary for Public Affairs. Effective June 2, 2000.

Program Officer to the Director, Foreign Press Centers. Effective June 2, 2000.

Staff Assistant to the Assistant Secretary, Bureau of Legislative Affairs. Effective June 19, 2000.

Public Affairs Specialist to the Deputy Assistant Secretary. Effective June 21, 2000.

Department of Transportation

Special Assistant to the Associate Director for Media Relations and Special Projects. Effective June 19, 2000.

Department of the Treasury

Director, Office of Public Affairs to the Deputy Assistant Secretary (Public Affairs). Effective June 12, 2000.

Department of Veterans Affairs

Executive Assistant to the Assistant Secretary for Congressional Affairs. Effective June 28, 2000.

Export—Import Bank of the United States

Special Assistant to the President and Chairman. Effective June 2, 2000.

Farm Credit Administration

Secretary to the Chairman and CEO. Effective June 30, 2000.

Public Affairs Specialist to the Director, Office of Congressional and Public Affairs. Effective June 30, 2000.

Federal Maritime Commission

Counsel to a Commissioner of the Federal Maritime Commission. Effective June 19, 2000.

Federal Trade Commission

Director of Public Affairs (Supervisory Public Affairs Specialist) to the Chairman. Effective June 29, 2000.

National Transportation Safety Board

Special Assistant to the Board Member. Effective June 19, 2000.

Confidential Assistant to the Chairman. Effective June 23, 2000.

Office of Management and Budget

Public Affairs Officer to the Associate Director for Communications. Effective June 23, 2000.

Office of Personnel Management

Special Assistant to the Director, Office of Personnel Management. Effective June 21, 2000.

Small Business Administration

Regional Administrator, Region VII, Kansas City, MO, to the Administrator, Small Business Administration. Effective June 5, 2000.

Authority: 5 U.S.C. 3301 and 3302; E.O. 10577, 3 CFR 1954-1958 Comp., P.218

Office of Personnel Management.
Janice R. Lachance,
Director.

[FR Doc. 00-19766 Filed 8-3-00; 8:45 am]

BILLING CODE 6325-01-P